DEPARTMENT OF COMMERCE

International Trade Administration

[A-428-602, C-351-601, C-427-603]

Brass Sheet and Strip from Germany, Brazil, and France: Extension of Final Results of Expedited Sunset Reviews of the Antidumping and Countervailing Duty Orders

AGENCY: Import Administration, International Trade Administration, Department of Commerce.

SUMMARY: The Department of Commerce (“the Department”) is extending the time limit for its final results in the expedited sunset reviews of the antidumping (AD) and countervailing duty (CVD) orders on brass sheet and strip from Germany (AD), Brazil (CVD), and France (CVD). As a result of this extension, the Department intends to issue final results of these sunset reviews on or about October 28, 2005.

DATES: EFFECTIVE DATE: July 27, 2005.

FOR FURTHER INFORMATION CONTACT: Audrey Twyman at (202) 482-3534 (Germany), or Tipten Troidl at (202) 482-1767 (Brazil and France), Import Administration, International Trade Administration, U.S. Department of Commerce, 14th Street & Constitution Avenue, NW, Washington, DC 20230.

SUPPLEMENTARY INFORMATION:

Extension of Final Results:

On April 1, 2005, the Department initiated sunset reviews of the antidumping and countervailing duty orders on brass sheet and strip from Germany, Brazil, and France. See Initiation of Five-Year (Sunset) Reviews, 70 FR 16800 (April 1, 2005). Based on adequate responses from the domestic interested parties and inadequate responses from respondent interested parties, the Department is conducting expedited sunset reviews to determine whether revocation of the antidumping and countervailing duty orders on brass sheet and strip would lead to the continuation or recurrence of dumping or a countervailable subsidy. The Department's final results of these reviews were scheduled for August 1, 2005; however, the Department needs additional time for its analysis.

In accordance with section 751(c)(5)(B) of the Tariff Act of 1930, as amended (“the Act”), the Department may extend the period of time for making its final determination in a sunset review by not more than 90 days, if it determines that the review is extraordinarily complicated. As set forth in 751(c)(5)(C)(v) of the Act, the Department may treat a sunset review as extraordinarily complicated if it is a review of a transition order. The sunset reviews subject to this notice are reviews of transition orders. Therefore, the Department has determined, pursuant to section 751(c)(5)(C)(v) of the Act, that the sunset reviews of the antidumping and countervailing duty orders on brass sheet and strip from Germany, Brazil, and France are extraordinarily complicated and require additional time for the Department to complete its analysis. Therefore, the Department will extend the deadlines in these proceedings, and, as a result, intends to issue the final results of the sunset reviews of the antidumping and countervailing duty orders of brass sheet and strip from Germany, Brazil, and France, on or about October 28, 2005, 90 days from the original scheduled date of the final results of these reviews.

This notice is issued and published in accordance with sections 751(c)(5)(B) and (C) of the Act.

Dated: July 20, 2005.
Barbara E. Tillman,
Acting Deputy Assistant Secretary for Import Administration.

[FR Doc. E5-4005 Filed 7-26-05; 8:45 am]

BILLING CODE 3510-DS-S